SMALL BUSINESS ADMINISTRATION

[Declaration of Disaster #3315]

State of Arkansas; Amendment #1

In accordance with a notice received from the Federal Emergency Management Agency, dated January 8, 2001, the above-numbered Declaration is hereby amended to establish the incident period for this disaster as beginning on December 12, 2000 and continuing through January 8, 2001.

All other information remains the same, i.e., the deadline for filing applications for physical damage is February 27, 2001 and for economic injury the deadline is October 1, 2001.

(Catalog of Federal Domestic Assistance Program Nos. 59002 and 59008.)

Dated: January 10, 2001.
Herbert L. Mitchell,
Associate Administrator for Disaster Assistance.

[FR Doc. 01-1325 Filed 1-16-01; 8:45 am]

BILLING CODE 8025-01-P